DEPARTMENT OF AGRICULTURE

Animal and Plant Health Inspection Service

[Docket No. 98-090-2]

RIN 0579-AB03

Classical Swine Fever: Availability of Risk Analysis Related to the Importation of Swine and Swine Products from the European Union

AGENCY: Animal and Plant Health Inspection Service, USDA.

ACTION: Notice of availability and request for comments.

SUMMARY: We are giving notice of the availability of, and are requesting comments on, a revised analysis of the risk of introducing classical swine fever virus in swine and swine products imported from the European Union.

DATES: We will consider all comments we receive that are postmarked, delivered, or e-mailed by July 2, 2002.

ADDRESSES: You may submit comments by postal mail/commercial delivery or by e-mail. If you use postal mail/commercial delivery, please send four copies of your comment (an original and three copies) to: Docket No. 98-090-2, Regulatory Analysis and Development, PPD, APHIS, Station 3C71, 4700 River Road Unit 118, Riverdale, MD 20737-1238. Please state that your comment refers to Docket No. 98-090-2. If you use e-mail, address your comment to regulations@aphis.usda.gov. Your comment must be contained in the body of your message; do not send attached files. Please include your name and address in your message and “Docket No. 98-090-2” on the subject line.

You may read the revised risk analysis and any comments that we receive on that document in our reading room. The reading room is located in room 1141 of the USDA South Building, 14th Street and Independence Avenue SW., Washington, DC. Normal reading room hours are 8 a.m. to 4:30 p.m., Monday through Friday, except holidays. To be sure someone is there to help you, please call (202) 690-2817 before coming.

You may request a copy of “Risk Analysis for Importation of Classical Swine Fever Virus in Swine and Swine Products from the European Union—December 2000” by writing to the person listed under FOR FURTHER INFORMATION CONTACT. The risk analysis is also available on the Internet. Instructions for electronic access are included below under SUPPLEMENTARY INFORMATION.

APHIS documents published in the Federal Register, and related information, including the names of organizations and individuals who have commented on APHIS dockets, are available on the Internet at http://www.aphis.usda.gov/ppd/rad/webrepor.html.

FOR FURTHER INFORMATION CONTACT: Dr. Anne Goodman, Supervisory Staff Officer, Regionalization Evaluation Services Staff, National Center for Import and Export, VS, APHIS, 4700 River Road Unit 38, Riverdale, MD 20737-1231; (301) 734-4356.

SUPPLEMENTARY INFORMATION:

Background

The Animal and Plant Health Inspection Service (APHIS) of the U.S. Department of Agriculture (the Department) regulates the importation of animals and animal products to guard against the introduction of animal diseases into this country. The regulations pertaining to the importation of animals and animal products are set forth in the Code of Federal Regulations (CFR), title 9, chapter I, subchapter D (9 CFR parts 91 through 99).

On June 25, 1999, we published in the Federal Register (64 FR 34155-34168, Docket No. 98-090-1) a proposal to, among other things, amend the regulations regarding the importation of swine and swine products from the European Union (EU).

Before developing our proposed rule, we conducted an analysis to determine the likelihood of introducing classical swine fever (which we referred to in the proposed rule as hog cholera) from the EU, and to determine what, if any, mitigation measures we considered necessary. We assessed the likelihood of introducing classical swine fever through the importation of live breeding swine, swine semen, and pork and pork products. We made the risk analysis available to the public during the comment period for the proposed rule.

We solicited comments concerning our proposed rule for 60 days ending August 24, 1999, and received five comments by that date. One of the comments expressed concerns with several aspects of our risk analysis. Based on that comment, and as recommended by the Department's Office of Risk Assessment and Cost Benefit Analysis, we revised the initial risk analysis and included a supplement that presented in more detail specific information about classical swine fever outbreaks in the EU. The revised risk analysis is titled “Risk Analysis for Importation of Classical Swine Fever Virus in Swine and Swine Products from the European Union—December 2000.”

We are giving notice that the revised risk analysis is available for public review and are requesting comments on the revised document. We will address any comments we receive on the revised risk analysis when we address the comments received on our June 1999 proposed rule.

Accessing the Revised Risk Analysis on the Internet

The Internet address for accessing the revised risk analysis is http://www.aphis.usda.gov/vs/reg-request.html. At the bottom of that website page, click on “Information previously submitted by Regions requesting export approval and their supporting documentation.” At the next screen, click on the triangle beside “European Union/Not Specified/Classical Swine Fever,” then on the triangle beside “Response by APHIS.” A link will then appear for “Risk Analysis for Importation of Classical Swine Fever Virus in Swine and Swine Products from the European Union—December 2000.” Following that link will allow you to view the revised risk analysis.

Authority: 7 U.S.C. 450, 1622, 7711, 7712, 7713, 7714, 7751, and 7754; 19 U.S.C. 1306; 21 U.S.C. 102-105, 111, 114a, 134a-134d, 134f, 136, and 136a; 31 U.S.C. 9701; 42 U.S.C. 4331 and 4332; 7 CFR 2.22, 2.80, and 371.4.

Done in Washington, DC, this 29th day of April, 2002.
Peter Fernandez,
Acting Administrator, Animal and Plant Health Inspection Service.

[FR Doc. 02-11009 Filed 5-2-02; 8:45 am]

BILLING CODE 3410-34-P